DEPARTMENT OF JUSTICE

Notice of Lodging of Consent Decree Pursuant to the Clean Water Act

In accordance with Departmental policy in 28 CFR 50.7, notice is hereby given that on April 11, 2003, a proposed Consent Decree in United States of America and Commonwealth of Pennsylvania v. Bradford Sanitary Authority, Civil Action No. 03-123E, was lodged with the United States District Court for the Western District of Pennsylvania.

In this action, the United States sought injunctive relief and civil penalties against Defendant Bradford Sanitary Authority (“Bradford”). Bradford operates a publicly-owned water treatment works that has discharged pollutants into waters of the United States in violation of Sections 301(a) and 402(a) of the Clean Water Act (“CWA”), 33 U.S.C. 1311(a), 1342(a), and in violation of the terms of its National Pollutant Discharge Elimination System (“NPDES”) permit, issued to Bradford pursuant to Section 402 of the CWA, 33 U.S.C. 1342. The Consent Decree requires Bradford to comply with Federal and State clean water standards, pay a $40,000 civil penalty, and perform a Supplemental Environmental Project that will cost approximately $60,000.

The Department of Justice will receive for a period of thirty (30) days from the date of this publication comments relating to the Consent Decree. Comments should be addressed to the Assistant Attorney General, Environment and Natural Resources Division, P.O. Box 7611, U.S. Department of Justice, Washington, D.C. 20044-7611, and should refer to United States v. Bradford Sanitary Authority, D.J. Ref. # 90-5-1-1-4473. The Consent Decree may be examined at the Office of the United States Attorney, c/o Robert Eberhardt, Assistant United States Attorney, 7th & Grant Streets Pittsburgh, PA 15219, telephone (412) 644-5891, and at U.S. EPA Region III, c/o Yvette Roundtree, Assistant Regional Counsel, 1650 Arch Street, Philadelphia, PA 19103. During the public comment period, the Consent Decree may be examined on the Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury.

Robert Brook,
Assistant Chief, Environmental Enforcement Section, Environment and Natural Resources Division.

[FR Doc. 03-10710 Filed 4-30-03; 8:45 am]

BILLING CODE 4410-15-M